DEPARTMENT OF TRANSPORTATION

Federal Aviation Administration

14 CFR Part 97

[Docket No. 30703 Amdt. No 3354]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 7, 2010. The compliance date for each SIAP, associated Takeoff Minimums, and ODP is specified in the amendatory provisions.

The incorporation by reference of certain publications listed in the regulations is approved by the Director of the Federal Register as of January 7, 2010.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP.

Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on December 25, 2009.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 11 FEB 2010

Bethel, AK, Bethel, LOC/DME BC RWY 1L, Amdt 6, CANCELLED

Clarks Point, AK, Clarks Point, RNAV (GPS) RWY 18, Orig

Clarks Point, AK, Clarks Point, RNAV (GPS) RWY 36, Orig

Clarks Point, AK, Clarks Point, Takeoff Minimums and Obstacle DP, Orig

Elim, AK, Elim, RNAV (GPS) RWY 1, Orig

Elim, AK, Elim, RNAV (GPS) RWY 19, Orig

Unalaska, AK, Unalaska, Takeoff Minimums and Obstacle DP, Amdt 4

El Dorado, AR, South Arkansas Rgnl at Goodwin Field, ILS OR LOC RWY 22, Amdt 2

Auburn, CA, Auburn Muni, GPS RWY 7, Orig-A, CANCELLED

Auburn, CA, Auburn Muni, RNAV (GPS) RWY 7, Orig

Lancaster, CA, General WM J. Fox Airfield, RNAV (GPS) RWY 24, Orig

Marina, CA, Marina Muni, RNAV (GPS) RWY 11, Amdt 1

Marina, CA, Marina Muni, RNAV (GPS) RWY 29, Amdt 1

Marina, CA, Marina Muni, Takeoff Minimums and Obstacle DP, Amdt 2

Marina, CA, Marina Muni, VOR RWY 11, Amdt 1

Marina, CA, Marina Muni, VOR/DME RWY 29, Amdt 1

New Haven, CT, Tweed-New Haven, Takeoff Minimums and Obstacle DP, Amdt 5

Dunnellon, FL, Dunnellon/Marion Co and Park of Commerce, Takeoff Minimums and Obstacle DP, Orig

Bainbridge, GA, Decatur Co Industrial Air Park, LOC/NDB RWY 27, Orig, CANCELLED

Bainbridge, GA, Decatur Co Industrial Air Park, RNAV (GPS) RWY 9, Amdt 1

Bainbridge, GA, Decatur Co Industrial Air Park, RNAV (GPS) RWY 27, Amdt 1

Greensboro, GA, Green County Rgnl, LOC RWY 25, Amdt 3

Greensboro, GA, Green County Rgnl, RNAV (GPS) RWY 7, Amdt 1

Greensboro, GA, Green County Rgnl, RNAV (GPS) RWY 25, Amdt 1

Greensboro, GA, Green County Rgnl, VOR/DME-B, Amdt 2

Hilo, HI, Hilo Intl, PARIS FOUR Graphic Obstacle DP

Clarinda, IA, Schenck Field, GPS RWY 2, Orig-A, CANCELLED

Clarinda, IA, Schenck Field, GPS RWY 20, Orig-B, CANCELLED

Clarinda, IA, Schenck Field, RNAV (GPS) RWY 2, Orig

Clarinda, IA, Schenck Field, RNAV (GPS) RWY 20, Orig

Eagle Grove, IA, Eagle Grove Muni, NDB RWY 13, Amdt 2

Eagle Grove, IA, Eagle Grove Muni, RNAV (GPS) RWY 13, Orig

Eagle Grove, IA, Eagle Grove Muni, RNAV (GPS) RWY 31, Amdt 1

Eagle Grove, IA, Eagle Grove Muni, Takeoff Minimums and Obstacle DP, Amdt 3

Eagle Grove, IA, Eagle Grove Muni, VOR/DME-A, Amdt 2

Webster City, IA, Webster City Muni, GPS RWY 32, Orig, CANCELLED

Webster City, IA, Webster City Muni, RNAV (GPS) RWY 32, Orig

Webster City, IA, Webster City Muni, Takeoff Minimums and Obstacle DP, Orig

Topeka, KS, Philip Billard Muni, ILS OR LOC RWY 13, Amdt 33

Millinocket, ME, Millinocket Muni, Takeoff Minimums and Obstacle DP, Amdt 3

Granite Falls, MN, Granite Falls Muni/Lenzen-Roe Memorial Fld, GPS RWY 33, Orig-B, CANCELLED

Granite Falls, MN, Granite Falls Muni/Lenzen-Roe Memorial Fld, RNAV (GPS) RWY 33, Orig

Charlotte, NC, Charlotte/Douglas Intl, ILS OR LOC RWY 5, Amdt 38

Charlotte, NC, Charlotte/Douglas Intl, ILS OR LOC RWY 18C, Amdt 10

Charlotte, NC, Charlotte/Douglas Intl, ILS OR LOC RWY 18L, Amdt 7

Charlotte, NC, Charlotte/Douglas Intl, ILS OR LOC RWY 18R, ILS RWY 18R (CAT II), ILS RWY 18R (CAT III), Orig

Charlotte, NC, Charlotte/Douglas Intl, ILS OR LOC RWY 23, Amdt 3

Charlotte, NC, Charlotte/Douglas Intl, ILS OR LOC RWY 36C, ILS RWY 36C (CAT II), ILS RWY 36C (CAT III), Amdt 16

Charlotte, NC, Charlotte/Douglas Intl, ILS OR LOC RWY 36L, ILS RWY 36L (CAT II), ILS RWY 36L (CAT III), Orig

Charlotte, NC, Charlotte/Douglas Intl, ILS OR LOC RWY 36R, ILS RWY 36R (CAT II), ILS RWY 36R (CAT III), Amdt 11

Charlotte, NC, Charlotte/Douglas Intl, RNAV (GPS) Y RWY 5, Amdt 3

Charlotte, NC, Charlotte/Douglas Intl, RNAV (GPS) Y RWY 18C, Amdt 3

Charlotte, NC, Charlotte/Douglas Intl, RNAV (GPS) Y RWY 18L, Amdt 3

Charlotte, NC, Charlotte/Douglas Intl, RNAV (GPS) Y RWY 18R, Orig

Charlotte, NC, Charlotte/Douglas Intl, RNAV (GPS) Y RWY 23, Amdt 1

Charlotte, NC, Charlotte/Douglas Intl, RNAV (GPS) Y RWY 36C, Amdt 3

Charlotte, NC, Charlotte/Douglas Intl, RNAV (GPS) Y RWY 36L, Orig

Charlotte, NC, Charlotte/Douglas Intl, RNAV (GPS) Y RWY 36R, Amdt 3

Charlotte, NC, Charlotte/Douglas Intl, RNAV (RNP) Z RWY 5, Orig

Charlotte, NC, Charlotte/Douglas Intl, RNAV (RNP) Z RWY 18C, Orig

Charlotte, NC, Charlotte/Douglas Intl, RNAV (RNP) Z RWY 18L, Orig

Charlotte, NC, Charlotte/Douglas Intl, RNAV (RNP) Z RWY 18R, Orig

Charlotte, NC, Charlotte/Douglas Intl, RNAV (RNP) Z RWY 23, Orig

Charlotte, NC, Charlotte/Douglas Intl, RNAV (RNP) Z RWY 36C, Orig

Charlotte, NC, Charlotte/Douglas Intl, RNAV (RNP) Z RWY 36L, Orig

Charlotte, NC, Charlotte/Douglas Intl, RNAV (RNP) Z RWY 36R, Orig

Concord, NC, Concord Rgnl, Takeoff Minimums and Obstacle DP, Amdt 3

Monroe, NC, Charlotte-Monroe Executive, Takeoff Minimums and Obstacle DP, Amdt 1

Gastonia, NC, Gastonia Muni, Takeoff Minimums and Obstacle DP, Amdt 5

Kindred, ND, Hamry Field, Takeoff Minimums and Obstacle DP, Orig

Ithaca, NY, Ithaca Tompkins Rgnl, RNAV (GPS) Y RWY 14, Orig

Ithaca, NY, Ithaca Tompkins Rgnl, RNAV (GPS) Z RWY 14, Orig

Ithaca, NY, Ithaca Tompkins Rgnl, VOR RWY 14, Amdt 14

Ithaca, NY, Ithaca Tompkins Rgnl, VOR RWY 32, Amdt 2

Isla De Vieques, PR, Antonio Rivera Rodriquez, Takeoff Minimums and Obstacle DP, Amdt 2

Rock Hill, SC, Rock Hill/York Co/Bryant Field, Takeoff Minimums and Obstacle DP,

Amdt 1

Walterboro, SC, Lowcountry Rgnl, GPS RWY 5, Orig-B, CANCELLED

Walterboro, SC, Lowcountry Rgnl, GPS RWY 17, Orig-A, CANCELLED

Walterboro, SC, Lowcountry Rgnl, GPS RWY 35, Orig-A, CANCELLED

Walterboro, SC, Lowcountry Rgnl, ILS OR LOC/DME RWY 23, Orig

Walterboro, SC, Lowcountry Rgnl, NDB RWY 23, Amdt 12

Walterboro, SC, Lowcountry Rgnl, RNAV (GPS) RWY 5, Orig

Walterboro, SC, Lowcountry Rgnl, RNAV (GPS) RWY 17, Orig

Walterboro, SC, Lowcountry Rgnl, RNAV (GPS) RWY 23, Orig

Walterboro, SC, Lowcountry Rgnl, RNAV (GPS) RWY 35, Orig

Graford, TX, Possum Kingdom, NDB OR GPS-A, Amdt 1, CANCELLED

Graford, TX, Possum Kingdom, RNAV (GPS) RWY 2, Orig

Graford, TX, Possum Kingdom, RNAV (GPS) RWY 20, Orig

Graford, TX, Possum Kingdom, Takeoff Minimums and Obstacle DP, Orig

Houston, TX, Sugar Land Rgnl, NDB RWY 17, Orig, CANCELLED

Salt Lake City, UT, Salt Lake City Intl, Takeoff Minimums and Obstacle DP, Amdt 11

Martinsville, VA, Blue Ridge, Takeoff Minimums and Obstacle DP, Amdt 3

Riverton, WY, Riverton Rgnl, GPS RWY 28, Orig-A, CANCELLED

Riverton, WY, Riverton Rgnl, ILS OR LOC RWY 28, Amdt 2

Riverton, WY, Riverton Rgnl, RNAV (GPS) RWY 10, Amdt 1

Riverton, WY, Riverton Rgnl, RNAV (GPS) RWY 28, Orig

Riverton, WY, Riverton Rgnl, Takeoff Minimums and Obstacle DP, Amdt 1

Riverton, WY, Riverton Rgnl, VOR RWY 10, Amdt 9

Riverton, WY, Riverton Rgnl, VOR RWY 28, Amdt 9

On Monday, November 23, 2009 (74 FR 224) The FAA published an Amendment in Docket No. 30697; Amdt No. 3348 to Part 97 of the Federal Aviation Regulations under section 97.23. The following entry should not have been published:

Wrangell AK, Wrangell, VOR/DME-B, Amdt 1, CANCELLED

[FR Doc. E9-31309 Filed 1-6-10; 8:45 am]

BILLING CODE 4910-13-P